INTERNATIONAL TRADE COMMISSION

[Investigation No. 332-507]

Advice Concerning Possible Modifications to the U.S. Generalized System of Preferences, 2009 Review of Additions and Removals

AGENCY: United States International Trade Commission.

ACTION: Institution of investigation and scheduling of hearing.

SUMMARY: Following receipt of a request on October 16, 2009 from the United States Trade Representative (USTR) under section 332(g) of the Tariff Act of 1930 (19 U.S.C. 1332 (g)), the U.S. International Trade Commission (Commission) instituted investigation No. 332-507, Advice Concerning Possible Modifications to the U.S. Generalized System of Preferences, 2009 Review of Additions and Removals.

DATES: November 4, 2009: Deadline for filing requests to appear at the public hearing.

November 5, 2009: Deadline for filing pre-hearing briefs and statements.

November 16, 2009: Public hearing.

November 19, 2009: Deadline for filing post-hearing briefs and statements and other written submissions.

January 21, 2010: Transmittal of report to the Office of the United States Trade Representative.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Information specific to this investigation may be obtained from Gail Burns, Project Leader, Office of Industries (202-205-2501 or gail.burns@usitc.gov) or Philip Stone, Deputy Project Leader, Office of Industries (202-205-3424 or philip.stone@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, in accordance with sections 503(a)(1)(A), 503(e), and 131(a) of the Trade Act of 1974, as amended (19 U.S.C. 2463(a)(1)(A), 19 U.S.C. 2463(e), and 19 U.S.C. 2151(a)), and pursuant to the authority of the President delegated to the United States Trade Representative by sections 4(c) and 8(c) and (d) of Executive Order 11846 of March 31, 1975, as amended, and pursuant to section 332(g) of the Tariff Act of 1930 (19 U.S.C. 1332(g)), the Commission will provide advice as to the probable economic effect on U.S. industries producing like or directly competitive articles and on U.S. imports and consumers of the elimination of U.S. duties for all beneficiary developing countries under the GSP program on articles provided for in HTS subheadings 0710.22.40, 0710.90.91, 2905.17.00, 3823.70.40, and 7614.10.10. Also, as requested by USTR, pursuant to section 332(g) of the Tariff Act of 1930, the Commission will provide advice as to the probable economic effect on U.S. industries producing like or directly competitive articles, on U.S. imports, and on consumers of the removal of India from GSP eligibility for HTS subheadings 7113.19.21 and 7113.19.25. As requested by the USTR, the Commission will provide its advice by January 21, 2010. The USTR indicated that those sections of the Commission's report and related working papers that contain the Commission's advice will be classified as “confidential.”

Public Hearing: A public hearing in connection with this investigation will be held at the U.S. International Trade Commission Building, 500 E Street SW., Washington, DC, beginning at 9:30 a.m. on November 16, 2009. Requests to appear at the public hearing should be filed with the Secretary no later than 5:15 p.m. November 4, 2009. Any pre-hearing briefs and other statements relating to the hearing should be filed with the Secretary not later than 5:15 p.m. November 5, 2009, and all post-hearing briefs and statements and any other written submissions should be filed with the Secretary not later than 5:15 p.m. November 19, 2009. All requests to appear and pre- and post-hearing briefs and statements must be filed in accordance with the requirements in the “Written Submissions” section below. In the event that, as of the close of business on November 4, 2009, no witnesses are scheduled to appear at the hearing, the hearing will be canceled. Persons interested in learning whether the hearing has been cancelled should call the Office of the Secretary after November 5, 2009, at 202-205-2000.

Written Submissions: In lieu of or in addition to participating in the hearing, interested parties are invited to file written submissions concerning this investigation. All such submissions should be addressed to the Secretary and should be received not later than 5:15 p.m. November 19, 2009 (see earlier dates for filing requests to appear and for filing pre-hearing briefs and statements). All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. The Commission may include some or all of the confidential business information submitted in the course of the investigation in the report it sends to the USTR.

As requested by the USTR, the Commission will publish a public version of the report, which will exclude portions of the report that the USTR has classified as well as any business confidential information.

Issued: October 21, 2009.
By order of the Commission.
Marilyn R. Abbott,
Secretary to the Commission.

[FR Doc. E9-25669 Filed 10-23-09; 8:45 am]

BILLING CODE 7020-02-P